DEPARTMENT OF THE INTERIOR

Bureau of Land Management

[LLNVB00000 L51100000.GN0000 LVEMF09CF200 241A; 12-08807; MO# 4500032952; TAS: 14X5017]

Notice of Availability of the Final Environmental Impact Statement for the Phoenix Copper Leach Project, Lander County, NV

AGENCY: Bureau of Land Management, Interior.

ACTION: Notice of Availability.

SUMMARY: In accordance with the National Environmental Policy Act (NEPA) of 1969, as amended, and the Federal Land Policy and Management Act of 1976, as amended, the Bureau of Land Management (BLM) has prepared a Final Environmental Impact Statement (FEIS) for the Phoenix Copper Leach Project and by this notice is announcing its availability.

DATES: The BLM will not issue a final decision on the proposal for a minimum of 30 days after the date that the Environmental Protection Agency (EPA) publishes its notice in the Federal Register.

ADDRESSES: Copies of the FEIS for the Phoenix Copper Leach Project are available for public inspection at the BLM, 50 Bastian Road, Battle Mountain, Nevada. Interested persons may also review the FEIS at the Web site: http://www.blm.gov/nv/st/en/fo/battle_mountain_field.html.

FOR FURTHER INFORMATION CONTACT: Mr. Dave Davis, Phoenix Project Manager, telephone: 775-635-4150; address: BLM, 50 Bastian Road, Battle Mountain, NV 89820, Attn.: Dave Davis; or by email at: CU_Leach@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Newmont Mining Corporation (Newmont) has submitted a proposed Amendment to the Plan of Operations for a new copper processing plant and appurtenant facilities to the BLM. The proposed project would be located in north-central Nevada approximately 12 miles southwest of Battle Mountain on both public and private lands in Lander County, Nevada. The project, as proposed, will disturb a total of 902 acres: 708 acres of private land owned by Newmont and 194 acres of public land. These lands are located in an already heavily mined area and the copper ore was previously being mined and placed on existing waste-rock facilities. The proposed project would involve the expansion and operation of the existing Phoenix Mine to include copper leaching/beneficiation of copper oxide rock material that previously has been permitted for disposal on currently permitted waste rock facilities. Active mining and processing for the proposed project would last approximately 24 years; overall closure and reclamation activities are anticipated to extend approximately 25 years beyond the operational phase. A minimum of 13 years of re-vegetation, and reclamation monitoring would be required following mine closure.

The BLM is also reviewing Newmont's application under the Mining Law of 1872; the BLM Code of Federal Regulations, Surface Management Regulations at 43 CFR 3809; and the Use and Occupancy Regulations at 43 CFR 3715, in response to Newmont's application for mining and processing of copper ore while preventing undue or unnecessary degradation of public lands.

The BLM will decide whether to grant an approval of the Amendment to the Plan of Operations as submitted or to modify it based on mitigation developed through this NEPA analysis.

The Draft Environmental Impact Statement (DEIS) for the Phoenix Copper Leach Project described and analyzed the proposed project's site-specific impacts for all affected resources. Two action alternatives, the Proposed Action and the Reona Copper Heap Leach Facility Elimination Alternative, were analyzed in detail, in addition to the No Action Alternative. Eleven additional alternatives presented in the DEIS were considered but eliminated from further analysis.

The Notice of Availability of the DEIS was published in the Federal Register on October 28, 2011, starting a 45-day public comment period that ended on December 12, 2011.

The BLM mailed 160 letters to individuals, non-government organizations, and local, state, and federal agencies who had stated an interest during the 2006 scoping period for the proposal. In addition, 11 copies of the DEIS were sent to local tribal councils who had stated an interest in the DEIS.

On November 30, 2010, eight individuals from the Battle Mountain and Elko Bands of the Te-Moak Shoshone Tribe, the Duckwater and the Yomba Shoshone Tribes were hand-delivered copies of the DEIS after a site visit to the proposed project site. The attending tribal members did not provide any specific individual or collective concerns related to the proposal.

A news release in the local papers announcing the availability of the DEIS was published and the DEIS was posted on the BLM Nevada Web site.

All comments received on the DEIS and internal BLM review were considered and incorporated as appropriate in the FEIS. Based on the proposed mitigation in the DEIS as well as applicant committed environmental protection measures, the BLM's preferred alternative is the proposed action. The mitigation measures and the applicant committed environmental protection measures will become conditions of approval of the Project. This FEIS is abbreviated. The FEIS document includes the changes made to the DEIS, as well as copies of the comments provided during the DEIS comment period and BLM responses to those comments. To understand the FEIS one must have to have both the DEIS and the FEIS and then compare the changes.

Douglas W. Furtado,
District Manager, Battle Mountain.

[FR Doc. 2012-10565 Filed 4-27-12; 11:15 am]

BILLING CODE 4310-HC-P